ENVIRONMENTAL PROTECTION AGENCY

[FRL-9710-9]

Proposed CERCLA Administrative Cost Recovery Settlements for the Buckbee-Mears Co. Superfund Site in Cortland, NY, Cortland County

AGENCY: Environmental Protection Agency (EPA).

ACTION: Notice; request for public comment.

SUMMARY: Under Section 122(h) of the Comprehensive Environmental Response, Compensation, and Liability Act of 1980, as amended (“CERCLA”), notice is hereby given of two proposed administrative settlements for recovery of past response costs concerning the Buckbee-Mears Co. Superfund Site located in Cortland, Cortland County, New York (the “Site”) with each of the following settling parties: the City of Cortland (“City”) and the County of Cortland (“County”)(collectively the “Municipal Settlements”). In order to resolve competing liens on two parcels of land within the Site (“Properties”), the Municipal Settlements provide that the City and the County agree to facilitate the sale and redevelopment of the Properties. In addition, if the Properties are sold pursuant to a pending foreclosure action by the State Bank of India, New York Branch (the “Bank”), the Bank will pay to the City, in full satisfaction of the City's tax lien, the greater of $302,881 (being the amount of City Taxes in arrears as of September 29, 2006) or fifteen percent (15%) of the proceeds from the sale of the Properties, and the Bank will pay to the County $2,120 in full satisfaction of its tax lien, after the Bank is paid $150,000 attributable to the costs of marketing and selling the Properties. Any proceeds from the Bank's foreclosure sale remaining after the above payments to the Bank, the City and the County, shall be distributed in proportion to the percentage that the following amounts represent in relation to the combined total of said amounts: (1) For EPA, $8,323,204; (2) for the Bank, $8,434,911; (3) for the City, $1,194,043 minus the greater of $302,881 or fifteen percent (15%) of the proceeds from the sale of the Properties. Also under the terms of the Municipal Agreements, if the Properties are not sold through the Bank's foreclosure action, the City and County will foreclosure on the Properties, transfer the Properties and pay to EPA 50% of the selling price, after the transaction costs associated with the sale have been paid. The transaction costs are capped at $5,000 for the County and $150,000 for the City. EPA has also agreed to discharge its CERCLA Section 107(l) lien on the Properties and has agreed to waive any windfall lien it may have on the Properties under CERCLA Section 107(r).

For thirty (30) days following the date of publication of this notice, the Agency will receive written comments relating to the Municipal Agreements. The Agency will consider all comments received and may modify or withdraw its consent to the two settlements if comments received disclose facts or considerations which indicate that either of the settlements is inappropriate, improper, or inadequate.

DATES: Comments must be provided within September 4, 2012.

ADDRESSES: Comments should be addressed to the U.S. Environmental Protection Agency, Office of Regional Counsel, 290 Broadway, 17th Floor, New York, New York 10007-1866 and should refer to the Buckbee-Mears Co. Superfund Site located in Cortland, New York, Cortland County, EPA Region II Docket No.'s CERCLA-02-2012-2018 and CERCLA-02-2012-2024.

FOR FURTHER INFORMATION CONTACT: U.S. Environmental Protection Agency, Office of Regional Counsel, 290 Broadway, 17th Floor, New York, New York 10007-1866, Attention: Marla E. Wieder, Assistant Regional Counsel at (212) 637-3184.

SUPPLEMENTARY INFORMATION: A copy of the proposed settlements may be obtained from Marla E. Wieder, Assistant Regional Counsel at the address above, or via email at wieder.marla@epa.gov.

Dated: July 16, 2012.
John S. Frisco,
Acting Director, Emergency & Remedial Response Division.

[FR Doc. 2012-19046 Filed 8-2-12; 8:45 am]

BILLING CODE P